DEPARTMENT OF THE INTERIOR

National Park Service

[NPS-WASO-NAGPRA-22812; PPWOCRADN0-PCU00RP14.R50000]

Notice of Inventory Completion: Dana Adobe Nipomo Amigos, Nipomo, CA

AGENCY: National Park Service, Interior.

ACTION: Notice.

SUMMARY: The Dana Adobe Nipomo Amigos has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Dana Adobe Nipomo Amigos. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Dana Adobe Nipomo Amigos at the address in this notice by March 27, 2017.

ADDRESSES: Donna L Gillette, Ph.D., NAGPRA Collections Manager, Dana Adobe Nipomo Amigos, 671 South Oakglen Avenue, Nipomo, CA 93444, telephone (805) 929-5679, email dana@danaadobe.org.

SUPPLEMENTARY INFORMATION: Notice is here given in accordance with the Native American Graves Protection and Repatriation Act (NAGPRA), 25 U.S.C. 3003, of the completion of an inventory of human remains under the control of the Dana Adobe Nipomo Amigos, Nipomo, CA. The human remains were removed from Nipomo, San Luis Obispo County, CA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Dana Adobe Nipomo Amigos professional staff in consultation with osteologists and representatives of the Santa Ynez Band of Chumash Mission Indians of the Santa Ynez Reservation, California, and the yak tityu tityu Northern Chumash Tribe, a non-federally recognized Indian group.

History and Description of the Remains

In July 2012, human remains representing, at minimum, one individual were removed from the Dana Adobe site in San Luis Obispo County, CA. The human remains were excavated from the northeast corner of the 1840s adobe while in the process of installing a four-inch wide drain pipe at a depth of 20-30 cm around the perimeter of the building. The firm that conducted the excavation initially identified all of the materials removed from the site as belonging to a medium to large unidentified mammal. Subsequently, the Dana Adobe Nipomo Amigos consulted with an osteologist to confirm that all materials in its possession were non-human. In the process, eight fragments were identified as one adult human, over the age of 20, and probably a female, while a ninth fragment was identified as likely of human origin. No known individuals were identified. No associated funerary objects are present.

Archeological evidence shows that the geographical area where the site is located has seen aboriginal activity for over 11,000 years, as evidenced by the recovery of a fluted point within the viewshed. In addition, ethnographic evidence identifies the Chumash as having occupied the area. Based on evidence provided by postmortem damage, these human remains predate the 1839-1840 construction of the Dana Adobe.

Determinations Made by the Dana Adobe Nipomo Amigos

Officials of the Dana Adobe Nipomo Amigos have determined that:

• Pursuant to 25 U.S.C. 3001(9), the human remains described in this notice represent the physical remains of one individual of Native American ancestry.

• Pursuant to 25 U.S.C. 3001(2), there is a relationship of shared group identity that can be reasonably traced between the Native American human remains and the Santa Ynez Band of Chumash Mission Indians of the Santa Ynez Reservation, California.

Additional Requestors and Disposition

Lineal descendants or representatives of any Indian tribe or Native Hawaiian organization not identified in this notice that wish to request transfer of control of these human remains should submit a written request with information in support of the request to Donna L. Gillette, Ph.D., NAGPRA Collections Manager, Dana Adobe Nipomo Amigos, 671 South Oakglen Avenue, Nipomo, CA 93444, telephone (805) 929-5679, email dana@danaadobe.org, by March 27, 2017. After that date, if no additional requestors have come forward, transfer of control of the human remains to the Santa Ynez Band of Chumash Mission Indians of the Santa Ynez Reservation, California, may proceed.

The Dana Adobe Nipomo Amigos is responsible for notifying the Santa Ynez Band of Chumash Mission Indians of the Santa Ynez Reservation, California, and the yak tityu tityu Northern Chumash Tribe, that this notice has been published.

Dated: January 27, 2017
Melanie O'Brien,
Manager, National NAGPRA Program.

[FR Doc. 2017-03620 Filed 2-23-17; 8:45 am]

BILLING CODE 4312-52-P